DEPARTMENT OF LABOR

Employment and Training Administration

[SGA/DFA-PY 05-05]

Solicitation for Grant Applications (SGA); Indian and Native American Employment and Training Program SGA

AGENCY: Employment and Training Administration (ETA), Labor.

ACTION: Notice: Amendment to SGA/DFA-PY-05-05.

SUMMARY: The Employment and Training Administration published a document in the Federal Register on January 4, 2008, announcing the availability of funds and solicitation for grant applications (SGA) for the Indians, Alaska Natives and Native Hawaiians under section 166 of the Workforce Investment Act (WIA) for Program Years (PY) 2008 and 2009. This notice is an amendment to the SGA and it amends “Announcement Type” and the “Application and Submission” Information section to correct the Funding Opportunity Number.

FOR FURTHER INFORMATION CONTACT: James Stockton, Grant Officer, Division of Federal Assistance, at (202) 693-3335.

Supplementary Information Correction: In the Federal Register of January 4, 2008, in FR Doc. E7-25608. On the first page (883) under the heading, “Announcement Type,” “Reference Funding Opportunity Number: SGA/DFA-PY-05-05” is amended to read, “SFA/DFA PY-07-04.” The third paragraph entitled “Submission Dates and Times” (page 888), “Reference SGA/DFA PY 05-05” is amended to read, “Reference SGA/DFA PY 07-04.”

Effective Date: This notice is effective January 17, 2008.

Signed at Washington, DC, this 11th day of January, 2008.
James W. Stockton,
Grant Officer.

[FR Doc. E8-662 Filed 1-16-08; 8:45 am]

BILLING CODE 4510-FN-P